DEPARTMENT OF ENERGY

Federal Energy Regulatory Commission

Combined Notice of Filings #1

Take notice that the Commission received the following electric corporate filings:

Docket Numbers: EC20-98-000.

Applicants: Cypress Creek Renewables Holdings, LLC.

Description: Application for Authorization Under Section 203 of the Federal Power Act, et al. of Cypress Creek Renewables Holdings, LLC.

Filed Date: 9/3/20.

Accession Number: 20200903-5125.

Comments Due: 5 p.m. ET 9/24/20.

Take notice that the Commission received the following exempt wholesale generator filings:

Docket Numbers: EG20-241-000.

Applicants: Mohave County Wind Farm LLC.

Description: Notice of Self-Certification of Exempt Wholesale Generator Status of Mohave County Wind Farm LLC.

Filed Date: 9/2/20.

Accession Number: 20200902-5271.

Comments Due: 5 p.m. ET 9/23/20.

Take notice that the Commission received the following electric rate filings:

Docket Numbers: ER19-467-007.

Applicants: New York Independent System Operator, Inc.

Description: Compliance filing: NYISO filing of errata to 8/12/20 ESR compliance filing set effective date to be effective 8/26/2020.

Filed Date: 9/3/20.

Accession Number: 20200903-5120.

Comments Due: 5 p.m. ET 9/24/20.

Docket Numbers: ER20-2399-001.

Applicants: PJM Interconnection, L.L.C.

Description: Tariff Amendment: Errata to WMPA SA No. 5696, Queue No. AF1-140 in Docket No. ER20-2399 to be effective 6/11/2020.

Filed Date: 9/3/20.

Accession Number: 20200903-5178.

Comments Due: 5 p.m. ET 9/24/20.

Docket Numbers: ER20-2804-000.

Applicants: Tri-State Generation and Transmission Association, Inc.

Description: § 205(d) Rate Filing: Amendment to Tri-State Rate Schedule No. 52 to be effective 9/3/2020.

Filed Date: 9/2/20.

Accession Number: 20200902-5258.

Comments Due: 5 p.m. ET 9/23/20.

Docket Numbers: ER20-2805-000.

Applicants: Cimarron Bend Assets, LLC.

Description: § 205(d) Rate Filing: Amended and Restated Shared Facilities Agreement to be effective 9/3/2020.

Filed Date: 9/2/20.

Accession Number: 20200902-5269.

Comments Due: 5 p.m. ET 9/23/20.

Docket Numbers: ER20-2807-000.

Applicants: Tri-State Generation and Transmission Association, Inc.

Description: § 205(d) Rate Filing: Amendment to Service Agreement No. 808 to be effective 2/25/2020.

Filed Date: 9/3/20.

Accession Number: 20200903-5049.

Comments Due: 5 p.m. ET 9/24/20.

Docket Numbers: ER20-2809-000.

Applicants: NorthWestern Corporation.

Description: § 205(d) Rate Filing: Tariff Revisions to Facilitate Entry into the Western Energy Imbalance Market to be effective 11/4/2020.

Filed Date: 9/3/20.

Accession Number: 20200903-5157.

Comments Due: 5 p.m. ET 9/24/20.

Docket Numbers: ER20-2810-000.

Applicants: Millican Solar Energy LLC.

Description: § 205(d) Rate Filing: Revised Market-Based Rate Tariff Filing to be effective 11/3/2020.

Filed Date: 9/3/20.

Accession Number: 20200903-5172.

Comments Due: 5 p.m. ET 9/24/20.

Docket Numbers: ER20-2811-000.

Applicants: Prineville Solar Energy LLC.

Description: § 205(d) Rate Filing: Revised Market-Based Rate Tariff Filing to be effective 11/3/2020.

Filed Date: 9/3/20.

Accession Number: 20200903-5174.

Comments Due: 5 p.m. ET 9/24/20.

Docket Numbers: ER20-2812-000.

Applicants: Terminus Hydroelectric, LLC.

Description: Baseline eTariff Filing: Market-Based Rate Application to be effective 11/3/2020.

Filed Date: 9/3/20.

Accession Number: 20200903-5177.

Comments Due: 5 p.m. ET 9/24/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2020-20239 Filed 9-14-20; 8:45 am]

BILLING CODE 6717-01-P